DEPARTMENT OF AGRICULTURE

Forest Service

Special Forest Products Resource Management in the Alaska Region

AGENCY: Forest Service, USDA.

ACTION: Notice of interim policy.

SUMMARY: In October 1997 the Regional Forester appointed a Special Forest Products Task Group for the purpose of formulating recommendations on how the Alaska Region should manage commercial use of special forest product resources. This initiated a process of defining and clarifying a practical method for managing the commercial harvest of special forest product resources in the Alaska Region. The Interim Special Forest Products Resource Management Policy incorporates agency, tribal, and public input.

The interim policy presents a region-wide strategy for management of special forest product resources in National Forests in Alaska. This policy applies only on National Forest system lands. It does not affect use of special forest product resources on state, private, or Native corporation lands. Because the policy is region-wide, it must be broad enough to encompass situations throughout the Alaska Region, from the Anchorage area to Hydaburg. It therefore focuses primarily on consistency with the process of special forest product resource management. Forest-related issues and the applicable Forest Plan will be addressed through forest-level policy development. Site-specific issues will be resolved at the local level by the district ranger, with tribal and community involvement, including the use of appropriate National Environmental Policy Act analysis.

DATES: Comments concerning this interim policy should be received in writing by April 24, 2000.

ADDRESSES: Submit written comments to Phyllis Woolwine, Juneau Ranger District, 8465 Old Dairy Road, Juneau, Alaska 99801.

FOR FURTHER INFORMATION CONTACT: Write Phyllis Woolwine, Juneau Ranger District, 8465 Old Dairy Road, Juneau Alaska 99801 or send e-mail to sfp/r10 ketchikan@fs.fed.us. Copies of the policy can be obtained at any Forest Service District Ranger or Forest Supervisor office in Alaska. The policy can also be read on the internet at www.fs.fed.us/r10.

SUPPLEMENTARY INFORMATION: The following is the Interim Special Forest Product Resource Management Policy.

Definitions

Special Forest Products are products derived from non-timber biological resources that are used for personal, educational, commercial, and scientific use. Special forest product resources include, but are not limited to: Mushrooms, boughs, Christmas trees, bark, ferns, moss, burls, berries, cones, conks, herbs, roots, and wildflowers. Also included are cuttings (such as of willow used for restoration) and transplants (as for landscaping purposes). Special forest product resources exclude saw-timber, pulpwood, cull logs, small round-wood, house logs, utility poles, minerals, animals, animal parts, rocks, water and soil.

Non-Commercial Use

(1) Subsistence Use—Customary and traditional uses by rural residents, as defined in the Alaska National Interest Lands and Conservation Act (ANILCA); Title VIII, for direct personal or family use or consumption, barter, sharing, or customary trade that does not constitute a significant commercial enterprise.

(2) Personal Use—Gathering of small quantities of materials for personal or family use or consumption; not intended for selling or resale. This includes cultural and traditional use by non-rural residents.

(3) Other Non-Commercial Use—This includes collections of plants by non-commercial entities for research not directed toward development of a commercial product. Educational use is also considered non-commercial when the class or workshop is affiliated with a college, university, tribe or other recognized organization. The class instructor may be compensated for his/her time in gathering and preparing the materials for the classroom, either by the organization or by the students.

Commerical Use—Materials harvested for the primary purpose of sale, resale, or use in a manufacturing process resulting in a product that will be sold or used for business activities. Research collections directed at development of a commercial product are also treated as commercial use.

In compliance with national and regional direction on special forest product resource management, forests and districts shall develop commercial special forest product resource management guidelines. Forests and districts shall outreach to tribes and local interested parties to ensure local involvement with the development of local special forest product resource management guidelines. These guidelines will be consistent in process but may vary in approach to specific species.

Permitting Requirements

Permits are required for commercial harvest of any special forest product resource. Research collections directed primarily at developing a commercial product also require a commercial use permit, and are subject to current national terms and conditions.

Collections that qualify as non-commercial research or educational use can be authorized through an administrative use permit or a free use permit.

In the majority of cases, non-commercial gathering of special forest product resources for subsistence and personal use in the Alaska Region do not require a special forest product permit. People collecting special forest product resources on the National Forest System lands in Alaska are expected to exercise reasonable care in protecting the resource from damage. Exercise control where necessary to prevent destructive gathering, over-harvesting, or damage to resource values. The authorized officer may require a free-use permit in order to mitigate site or species-specific concerns.

The Forest Service reserves the right to unilaterally revoke any permit for the permittee's noncompliance with its terms and conditions or when revocation is in the public's interest.

Special forest product resource use is prioritized according to: (1) Subsistence use (highest priority); (2) personal use, including customary and traditional gathering; (3) non-commercial research and educational uses; (4) commercial use. Priority uses may be sustained by not issuing commercial permits for areas where subsistence, personal, or cultural/traditional users gather, or by restricting commercial permits for certain special forest product resources that these users rely on, and which may be in limited supply.

As part of a community-based development of local guidelines, special forest product resource managers will consult with tribal officials in a government-to-government relationship to identify local areas and species of culturally significant plant resources and possible management practices that may enhance those resources. Special forest product resource managers will also outreach to include involvement by other locally interested parties.

Commercial Harvest Guidelines

Areas of primary consideration for commercial special forest product resource harvest are locations where planned management activities would otherwise damage or destroy the product. Under these circumstances, certain harvest restrictions (e.g., quantity limits, certain restricted species, etc.) for special forest product resources may be modified. Areas scheduled for timber harvest, road and trail construction and maintenance, and any vegetation management that will impact the special forest product resources in the area should be given top priority for commercial special forest product resource harvest. Where such areas are not available, commercial special forest product resource harvest may be allowed in other areas. However, commercial use of special forest product resources shall not conflict with standards and guidelines for management prescriptions in the applicable forest plan. Areas of known traditional subsistence and personal use should be prioritized for subsistence and personal use.

Frequency of commercial harvest is based at a minimum on the ability of a species to return to its pre-harvest condition. Other consideration may apply.

Devil's club (Oplopanax horridus) is not available for commercial harvest on the Tongass National Forest, based on Forest-wide cultural sensitivity. The availability of devil's club on the Chugach National Forest will be addressed at the Forest and District levels.

Permits for Commercial Harvest of Special Forest Products: Environmental Analysis

Commercial harvest of special forest product resources on National Forest System lands is subject to the National Environmental Policy Act (NEPA). Different proposed harvest activities require different levels of NEPA analysis, including the environmental impact statement (EIS), environmental analysis (EA), and categorical exclusion (CE).

The NEPA process is the appropriate vehicle for including input from all interested parties when there is a request for commercial harvest of special forest product resources.

As part of NEPA analysis for other disturbance activities, consider existing and future potentials for special forest product resource uses.

Civil rights impact analyses and social impact analyses are accomplished through the NEPA process.

In accordance with national and regional direction and the applicable forest plan, the NEPA analysis should identify and address, as appropriate, disproportionately high and adverse human health and environmental effects of any activity on minority populations and low-income populations.

Coordinate with the State and Private Forestry Forest Health Protection program if there are any recognized concerns regarding insect pests and diseases associated with special forest product resources, as harvest of special forest product resources can contribute to their spread.

Project Level Process

Permits are in all cases required for commercial harvest of special forest product resources, as well as for research collections directed at development of a commercial product. For commercial harvest, the permit must regulate the manner in which special forest product resources are harvested, provide information for monitoring the amount harvested, cover the government's administration cost, and to ensure the agency receives a fair market price for the sale of public resources to individuals receiving benefits beyond those received by the general public.

The following procedures for commercial special forest product permitting shall be followed at the district level, ensuring compliance with national, regional, forest and district direction, as well as adequate review by tribes and interested groups or individuals.

Persons wishing to harvest special forest product for commercial or research uses for the Alaska Region must fill out a special forest product permit application, supplied by the district, detailing requested plants/plant parts, quantities, proposed harvest methods, proposed harvest areas (indicated on a map), dates of harvest, number of people involved in harvest and transport, means of access and transportation, and intended use for the product(s). The application form will include summarized instruction on Alaska Region Policy. This application must be reviewed by district resource managers and the district ranger for consistency with national and regional directive, and with district special forest product guidelines. Any proposal at variance with these directives and guidelines shall be brought to the attention of the applicant for revision or exclusion from the application before further consideration is made.

Allowable harvest areas must be consistent with allowable uses designated in the forest plan. The appropriate line officer has the responsibility to restrict harvest areas or plants as necessary to accommodate local subsistence use, traditional use, and personal use priorities, as well as to mitigate for ecological or sustainability concerns. The line officer may limit allowable harvest quantities by each permittee for a number of reasons, including sound land management practices and diversifying economic opportunities among local residents.

All permit applications shall be made available at the district office for access and review by any member of the public. In addition, any groups or individuals interested in specific plants or areas may receive copes of pertinent applications for review as requested.

Local tribes shall be directly notified of any proposed commercial special forest product resource harvest activities within their use area in the interest of government-to-government relations. Through the consultation process, tribal officials may identify any possible area of conflict with cultural and traditional uses such as traditional gathering areas or traditional-use plants associated with the intended harvest. Confidentiality with regard to culturally sensitive information shall be exercised to the greatest extent possible when consulting with tribes. Accessing traditional knowledge should be done in such a way as to maintain tribal ownership of tribally contributed information wherever possible.

The appropriate line officer shall consider the physical and cultural needs of the tribe when making the final decision on permitting, in keeping with applicable federal laws, regulations, and policies relating to government-to-government relations.

All proposed commercial harvest activities shall be reviewed by the district or forest plant specialist in order to identify potential regeneration or sustainability concerns for individual plant species or groups, such as mosses and lichens. The district shall maintain a list of species having ecological, cultural, or sustainability concerns; harvest for those species may be restricted or prohibited. This list will be updated annually or as necessary to include information gained through monitoring, research, or tribal and community input.

All proposed commercial special forest product harvest activities will be subject to the appropriate level of NEPA analysis. Small amounts of non-controversial special forest products may only need review by the district, Tribe and identified interest groups. A categorical exclusion may be appropriate for such permits, if no concerns are raised during the initial review. Larger amounts or potentially controversial species will require further public scoping process.

If a district receives a significant number of special forest product permit applications, NEPA analysis may be done to identify in advance appropriate commercial use areas and harvest limits for specified special forest product resources, for a given period of time. The purpose would be to minimize community benefits while minimizing impacts to subsistence and personal use. However, this type of analysis shall not be done for areas or species until a significant number of permit applications have been received.

As a result of appropriate NEPA analysis, including review by district personnel, tribal government, and interested parties, as well as public scoping as appropriate, the proposed activity on the permit application may be revised before a permit is issued. The permit will be issued on either form FS-2400-1 or FS-2400-4, depending on the quantity and value of the proposed sale. Permits indicate the type of permitted action, the species involved, the amount permitted for harvest method, the area approved for the permitted action, time frames for removal, terms and conditions, local guidelines, and any specialized instructions deemed necessary for such use. The minimum charge for a commercial special forest product permit is $10, in accordance with national direction.

A blanket commercial use permit may be issued to a tribe for the purpose of allowing tribal administration of non-subsistence commercial use by tribal members. This commercial use permit would be issued to the tribe and, like all other commercial use permits, is subject to national, regional and forest special forest product policy and regulations governing commercial use of special forest product resources. Under the terms and conditions of the permit, the tribe may then issue sub-permits allowing members of that tribe to conduct harvest activities. The tribe will have jurisdiction over its members with regard to compliance.

Valuation of Special Forest Products

Rates for commercial harvest of special forest product resources should reflect local conditions such as distance from the market, difficulty of harvest, quality of the product and market factors.

The Alaska Region shall develop a minimum rates table for sale of specific special forest product resources. Development of minimum rates shall be the responsibility of the Director of Forest Management.

Standard rates shall be established and updated for each forest and shall be the responsibility of the forest timber staff officer. Standard rates should be more reflective of fair market value, should be adjusted annually, and should generally be based on 10 percent of the price paid to harvesters.

Product availability is subject to many factors, including abundance, ecological concerns, and use priorities. Some products will not be available on a forest or district based on management decisions at the forest and district level.

Special forest product requests with an appraised value of $2,000 or greater, or those for which competition exists, shall be advertised for 30 days and made available through a bidding process.

Selling units (bushels, pounds, each, etc.) for specific special forest product resources shall be consistent across the Alaska Region to make record keeping, reporting, and monitoring more accurate and efficient.

Inventory and Monitoring Strategies:

Inventory

In order to determine availability of special forest product resources for the Alaska Region, an inventory must be established to assess the range, distribution and abundance of species. Initially, the inventory may rely on using existing data (e.g., stand exams, botany and ecology surveys, research, etc.) and traditional knowledge. The level of inventory should be determined partly by the level of demand and the scope of harvest. Inventory should be developed at the district level. District inventories shall be integrated at the forest level and regional level. The inventory should encompass the following objectives:

(1) Develop a list of species for which inventory information is needed.

(2) Information derived from the NEPA process should be fed into the inventory.

(3) Such Natural Resource Information System (NRIS) tools as the TERRA (Terrestrial) and FSVEG (Field Sampled Vegetation) databases, and the ECOMAP and Existing Vegetation classification and mapping modules, shall be used to track and integrate the inventories at the forest and regional level.

(4) This species presence and abundance information becomes part of a foundation for district-specific determination of available species for commercial harvest. This information does not replace project-specific NEPA analysis.

Monitoring/Administration

As commercial special forest product resource harvest becomes established in the Alaska Region, it is necessary to monitor the ecological impacts of harvest methods and intensities permitted. Results from monitoring activities should be used to adjust special forest product resource harvest parameters. District managers may share monitoring efforts with their cooperative partners to encourage local investment in the program and benefits to the community. The appropriate level of monitoring is determined through NEPA analysis. Suggested monitoring activities include:

(1) Allow yearly budget, inventories and permit demand to establish a special forest products program that ensures adequate monitoring controls while meeting public demand to the best extent possible.

(2) Establish a monitoring program that involves at a minimum the establishment of pre-harvest baseline conditions and periodic visits after harvest to assess species response to harvest and the associated habitat for impacts.

(3) Incorporate monitoring results into the permitting process (e.g. adjustment of harvest limits).

(4) Incorporate monitoring activities into ongoing fieldwork (e.g. regeneration surveys, harvest evaluations, etc.) wherever possible.

(5) Tie monitoring into the national corporate data base structure (TIM, FACS).

(6) Track monitoring results in the appropriate NRIS database (TERRA, FSVEG).

(7) Permittees shall report the total amount of each special forest product resource harvested from each location at the end of the permitted period.

(8) The special forest products program should not exceed the ability of the Region to adequately monitor its effects. To do otherwise is to violate NEPA and Forest Service sustained yield requirements.

(9) As the program grows, standard rates should be adjusted to reflect current market conditions as well as inventory, monitoring and administration costs. At that time protocol should be intensified to include permit-specific site visits, including permanent plots, on a scheduled basis.

Accountability

It is imperative that accountability be built into the special forest products program or management will be impossible. In order to ensure that permit conditions are being met, the following steps shall be taken:

(1) A written permit shall be issued to each commercial permittee, identifying at a minimum:

(A) Designated harvest area

(B) Termination date of the permit

(C) Product(s) being harvested

(D) Amount of product authorized for harvest (in standardized unit of measure)

(E) Method by which permittee can track the volume harvested

(F) Allowable damage to residual plants/product

(G) Penalties for violation

(2) Commercial harvest permits shall be carried on the permittee at all times while harvesting and transporting the product(s).

(3) Permittee shall keep a running tally of the amount of each product harvested on the back of the permit.

(4) Visit a monitored site once during harvest activity and once at closure to ensure compliance.

(5) If monitoring/administration of the program identifies that unacceptable impacts are occurring, then such areas shall be closed to allow for the recovery of the products.

Violations

Violators may be cited in accordance with the applicable Code of Federal Regulations (CFR), including:

(1) 36 CFR 261.6(a) Cutting or otherwise damaging a forest product except as authorized by a permit or federal law.

(2) 36 CFR 261.6(e) Loading, removing, or hauling a forest product acquired under any permit unless such product is identified as required in such permit.

(3) 36 CFR 261.10(c) Selling or offering for sale any merchandise or conducting any kind of work activity or service unless authorized by a federal law, regulation, or permit.

(4) 36 CFR 261.10(l) Violating any condition or term of a permit.

Dated: February 29, 2000.
James A. Caplan,
Deputy Regional Forester, Natural Resources.

[FR Doc. 00-5581 Filed 3-9-00; 8:45 am]

BILLING CODE 3410-11-M